AMTRAK REFORM COUNCIL

Notice of Meeting

AGENCY: Amtrak Reform Council.

ACTION: Notice of Special Public Business Meeting in New York, New York.

SUMMARY: As provided in Section 203 of the Amtrak Reform and Accountability Act of 1997 (Reform Act), the Amtrak Reform Council (ARC) gives notice of a special public meeting of the Council on Thursday, November 16, 2000. The meeting will begin at 1 p.m. The Council's agenda includes a discussion of the staff's working paper on Amtrak and the Northeast Corridor infrastructure; and a discussion of the staff's summary of the Council's outreach meetings, as well as other items proposed by the Council staff.

DATES: The Business Meeting will be held on Thursday, November 16, 2000 from 1 p.m. to 6 p.m. This meeting is open to the public.

ADDRESSES: The Business Meeting will take place in the New York State Public Service Commission, Department of Public Service, New York City Branch at One Penn Plaza, in New York, New York 10019. The location is between Seventh and Eighth Avenue and has street entrances on West 33rd and West 34th Street. The meeting will take place in the Boardroom on the eighth floor. Persons in need of special arrangements should contact the person listed below.

FOR FURTHER INFORMATION CONTACT: Deirdre O'Sullivan, Amtrak Reform Council, Room 7105, JM-ARC, 400 Seventh Street, SW., Washington, DC 20590, or by telephone at (202) 366-0591; FAX: 202-493-2061. For information regarding ARC's upcoming events, the agenda for meetings, the ARC's First Annual Report, information about ARC Council Members and staff, and much more, you can also visit the Council's website at www.amtrakreformcouncil.gov.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The ARAA prescribes that the Council is to consist of eleven members, including the Secretary of Transportation and ten others nominated by the President and the leadership of the Congress. Members serve a five-year term.

Issued in Washington, DC—November 2, 2000.
Thomas A. Till,
Executive Director.

[FR Doc. 00-28598 Filed 11-7-00; 8:45 am]

BILLING CODE 4910-06-P